DEPARTMENT OF ENERGY

Federal Energy Regulatory Commission

[Project No. P-15403-000]

WW Op Zone Fund 1, LLC; Notice of Intent To File License Application, Filing of Pre-Application Document, Approving Use of the Traditional Licensing Process

a. Type of Filing: Notice of Intent to File License Application and Request to Use the Traditional Licensing Process.

b. Project No.: P-15403-000.

c. Date Filed: May 19, 2025.

d. Submitted By: WW Op Zone Fund 1, LLC (Op Zone).

e. Name of Project: Lower Crompton Dam Hydroelectric Project (project).

f. Location: The project would be located on the South Branch Pawtuxet River in Kent County, Rhode Island.

g. Filed Pursuant to: 18 CFR 5.3 of the Commission's regulations.

h. Potential Applicant Contact: Justin P. Bristol, WW Op Zone Fund 1, LLC, 7 Nichols Lane, Hopkinton, RI 02832; Phone at (401) 793-6041; or email at jbristol@onedrophydro.com.

i. FERC Contact: Nathan Tatum at 202-502-8838 or at Nathan.Tatum@ferc.gov.

j. Op Zone filed its request to use the Traditional Licensing Process on May 19, 2025. Op Zone provided public notice of its request on June 5, 2025. In a letter dated July 17, 2025, the Director of the Division of Hydropower Licensing approved Op Zone's request to use the Traditional Licensing Process.

k. With this notice, we are initiating informal consultation with the U.S. Fish and Wildlife Service and/or the National Marine Fisheries Service (NMFS) under section 7 of the Endangered Species Act and the joint agency regulations thereunder at 50 CFR, Part 402; and NMFS under section 305(b) of the Magnuson-Stevens Fishery Conservation and Management Act and implementing regulations at 50 CFR 600.920. We are also initiating consultation with the Rhode Island State Historic Preservation Officer, as required by section 106, National Historic Preservation Act, and the implementing regulations of the Advisory Council on Historic Preservation at 36 CFR 800.2.

l. Op Zone filed a Pre-Application Document (PAD; including a proposed process plan and schedule) with the Commission, pursuant to 18 CFR 5.6 of the Commission's regulations.

m. A copy of the PAD may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY).

You may register online at http://www.ferc.gov/docs-filing/esubscription.asp to be notified via email of new filing and issuances related to this or other pending projects. For assistance, contact FERC Online Support.

n. The Commission's Office of Public Participation (OPP) supports meaningful public engagement and participation in Commission proceedings. OPP can help members of the public, including landowners, community organizations, Tribal members and others, access publicly available information and navigate

Commission processes. For public inquiries and assistance with making filings such as interventions, comments, or requests for rehearing, the public is encouraged to contact OPP at (202) 502-6595 or OPP@ferc.gov.

Dated: July 17, 2025.
Debbie-Anne A. Reese,
Secretary.

[FR Doc. 2025-13799 Filed 7-22-25; 8:45 am]

BILLING CODE 6717-01-P